FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

Mercury Worldwide Services Inc. dba Mercury Maritime, 61-36 233rd Street, Bayside, NY 11364, Officers: George Matthes, Secretary, (Qualifying Individual), Adam Chi, President.

Eagle Maritime, Inc., 1421 Witherspoon Street, Rahway, NJ 07065, Officer: Dasharath Patade, President, (Qualifying Individual).

Export Auto USA Corp., 6811 S. 78 Street, RiverView, FL 33578, Officer: Lina Vilkialis, President, (Qualifying Individual).

La Republica Cargo Express Corp., 30 Lawrence Street, Yonkers, NY 10705, Officer: Edgar Camacho, President, (Qualifying Individual).

Ever Since International Logistics Co., Ltd., 205½ S. Bushnell Ave., Alhambra, CA 91801, Officers: Wayne W. Gu, Vice President, (Qualifying Individual), Wen J. Chen, President.

PAL Shipping Line, Inc., 125 318th Ave., Princeton, MN 55371, Officer: Scott A. Frane, President, (Qualifying Individual).

Non-Vessel Operating Common Carrier and Ocean Freight Forwarder Transportation Intermediary Applicants

Tucker Company Worldwide, Inc., 900 Dudley Ave., Cherry Hill, NJ 08002, Officers: JoAnn M. Matczak, Asst. V. Pres. Operations, (Qualifying Individual), Jeffrey G. Tucker, President.

Round-The-World Logistics (U.S.A.) Corp., 230-59 Int'l Airport Center Blvd., Ste. 225, Jamaica, NY 11413, Officer: Hung Aka Alan, Cheng Li, COO, (Qualifying Individual).

Upward Logistics, LLC, 760 Atlanta South Parkway, Atlanta, GA 30349, Officers: Valentine D. Heger, V. Pres. International, (Qualifying Individual), Nick Byers, President.

America Global Logistics, LLC, 1335 NW 98th Court, Doral, FL 33172, Officers: Christian M. Ollino, Managing Member, (Qualifying Individual), Alejo J. Aguilar, Director.

Rax International, Inc., 2600 71st Street, North Bergen, NJ 07047, Officer: Sungkyu Chae, President, (Qualifying Individual).

Global Forwarding Enterprises Limited Liability Co., 49 Hedgerow Lane, Manalapan, NJ 07726, Officers: Marty A. Kavanagh, Manager, (Qualifying Individual), Pavel Kapelnikov, Gen. Manager.

Encompas Global Logistics LLC, 17890 Castleton Street, Ste. 368, City of Industry, CA 91748, Officer: Asa Cheng, President, (Qualifying Individual).

Ocean Freight Forwarder—Ocean Transportation Intermediary Applicants

Integrated Alliance Corp., 61-36 233rd Street, Bayside, NY 11364, Officers: George Matthes, Secretary, (Qualifying Individual), Adam Chi, President.

Fettig & Donalty, Inc., 1225 Eye St., NW., Ste. 1200, Washington, DC 20006, Officers: Michael S. Lagoon, Director, (Qualifying Individual), Shaikh Hamid, Vice President.

Deaking Trans-Global Logistics, LLC, 6817 South Point Parkway, Jacksonville, FL 32216, Officers: Iris M. Starling, Vice President, (Qualifying Individual), John P. Deakins, President.

Dated: January 9, 2009.
Karen V. Gregory,
Secretary.

[FR Doc. E9-700 Filed 1-13-09; 8:45 am]

BILLING CODE 6730-01-P